NUCLEAR REGULATORY COMMISSION

[Docket No. 50-247]

Entergy Nuclear Operations, Inc.; Notice of Issuance of Amendment to Facility Operating License and Final Determination of No Significant Hazards Consideration

The U.S. Nuclear Regulatory Commission (Commission) has issued Amendment No. 232 to Facility Operating License No. DPR-26 issued to Entergy Nuclear Operations, Inc. (the licensee), which revised the Technical Specifications for operation of the Indian Point Nuclear Generating Unit No.2 (IP2; the facility) located in Westchester County, New York. The amendment was effective as of the date of its issuance.

The amendment made a one-time only change to Technical Specification Surveillance Requirement 4.4.A.3 to revise the frequency for the containment integrated leak rate test (ILRT, Type A test) from at least once per 10 years to at least once per 15 years. This change applies only to the interval following the last Type A test that was performed satisfactorily in June 1991 at IP2.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment and Proposed No Significant Hazards Consideration Determination and Opportunity for Hearing in connection with this action was published in the Federal Register on August 22, 2001 (66 FR 44165). A request for a hearing was filed on March 18, 2002, by Riverkeeper, Inc.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the Safety Evaluation related to this action. Accordingly, as described above, the amendment has been issued and made immediately effective and any hearing will be held after issuance.

The Commission has determined that this amendment satisfies the criteria for categorical exclusion in accordance with 10 CFR 51.22. Therefore, pursuant to 10 CFR 51.22(b), no environmental impact statement or environmental assessment need be prepared for this amendment.

For further details with respect to this action, see (1) the application for amendment dated July 13, 2001, as supplemented November 30, 2001, March 13, April 3, May 30, and June 13, 2002, (2) Amendment No. 232 to License No. DPR-26, and (3) the Commission's related Safety Evaluation, which are available for public inspection at the Commission's PDR, located at One White Flint North, 11555 Rockville Pike (first floor), Rockville, Maryland. Publicly available records will be accessible electronically from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 5th day of August 2002.
For the Nuclear Regulatory Commission.
Daniel S. Collins,
Project Manager, Section 1, Project Directorate I, Division of Licensing Project Management, Office of Nuclear Reactor Regulation.

[FR Doc. 02-20175 Filed 8-8-02; 8:45 am]

BILLING CODE 7590-01-P